FEDERAL COMMUNICATIONS COMMISSION

Privacy Act; System of Records

AGENCY: Federal Communications Commission (FCC or Commission).

ACTION: Notice; one altered Privacy Act system of records; one revised routine use; one proposed new routine use; one deleted routine use; and one purged system of records.

SUMMARY: Pursuant to the provisions of the Privacy Act of 1974, as amended, 5 U.S.C. 552a(e)(4), the FCC proposes to alter a systems of records, FCC/CIB-1, “Informal Complaints and Inquiries,” to incorporate the provisions of FCC/CIB-4, “Telephone and Electronic Contacts,” to revise the routine uses, and to make other edits and revisions as necessary. The FCC will eliminate FCC/CIB-4.

DATES: Any interested person may submit written comments concerning the routine uses of this system on or before August 23, 2001. Pursuant to Appendix I, 4(e) of OMB Circular A-130, the FCC is asking the Office of Management and Budget (OMB), which has oversight responsibility under the Privacy Act, to grant a waiver of the 40 day review period by OMB, the House of Representatives, and the Senate for this system of records to allow the FCC to release a Report and Order related to this system of records. The proposed altered system shall be effective on August 23, 2001 unless the FCC receives comments that require a contrary determination. The Commission will publish a document in the Federal Register notifying the public if any changes are necessary.

ADDRESSES: Address comments to the Les Smith, Performance Evaluation and Record Management (PERM), Room 1-A804, Federal Communications Commission, 445 12th Street, SW, Washington, DC 20554, or via the Internet at lesmith@fcc.gov; or to Edward Springer, FCC Desk Officer, Office of Information and Regulatory Affairs, Office of Management and Budget, Docket Library, Room 10236, NEOB, 725 17th Street, NW, Washington, DC 20503, or via the Internet at Edward_C._Springer@omb.eop.gov.

FOR FURTHER INFORMATION CONTACT: Les Smith, Performance Evaluation and Records Management, Room 1-A804, Federal Communications Commission, 445 12th Street, SW., Washington, DC 20554, or via the Internet at lesmith@fcc.gov; or Arthur Scrutchins, Staff Attorney, Office of the Bureau Chief, Consumer Information Bureau, Room 3-A234, Federal Communications Commission, at (202) 418-2184, or via the Internet at ascrutch@fcc.gov.

SUPPLEMENTARY INFORMATION: As required by the Privacy Act of 1974, 5 U.S.C. 552a(e)(4), this document sets forth notice of the proposed alteration of a system of records maintained by the FCC. This notice is a summary of more detailed information which may be viewed at the location given in the ADDRESSES section above. The purpose of altering FCC/CIB-1, “Information Complaints and Inquiries,” is to enable the Consumer Information Bureau to handle and process informal complaints received from individuals, groups, and other entities. Records in this system are available for public inspection after redaction of information, which could identify the complainant or correspondent, i.e., name, address, and/or telephone number.

The Commission proposes to achieve this purpose by altering this system of records, FCC/CIB-1, “Informal Complaints and Inquiries,” with these changes:

The incorporation of the data elements of another system of records, FCC/CIB-4, “Telephone and Electronic Contacts,” into FCC/CIB-1; The elimination of FCC/CIB-4;

The revision of one routine use to address informal complaints:

Routine use (1) to allow disclosure when a record in this system involves an informal complaint, the complaint may be forwarded to the defendant entity for a response.

The addition of one routine use:

Routine use (2) to allow disclosure when an order or other Commission-issued document that includes consideration of informal complaints is entered by the FCC to implement the Communications Act, pertinent rule, regulation, or order of the FCC, the complainant's name and/or telephone number may be made public in that order or document;

The deletion of one routine use pursuant to 5 U.S.C. 552a(b)(3):

Former routine use (4) to disclose to a Federal agency, in response to its request, in connection with the hiring or retention of an employee, the issuance of a security clearance, the reporting of an investigation of an employee, the letting of a contract, or the issuance of a license, grant, or other benefit; and

The revision or modification of various data elements in FCC/CIB-1, including editorial changes, to update, simplify, or clarify, as necessary, this system of records.

The FCC will use FCC/CIB-1 to handle and process informal complaints received by individuals, groups, and other entities. Records in this system are available for public inspection after redaction of information, which could identify the complainant or correspondent, i.e., name, address, and/or telephone number. The functions in this system of records will be performed by the Consumer Information Bureau (CIB).

This notice meets the requirement documenting the change in the Commission's system of records, and provides the public, Congress, and the Office of Management and Budget (OMB) an opportunity to comment.

FCC/CIB-1

SYSTEM NAME:

Informal Complaints and Inquiries.

SECURITY CLASSIFICATION:

This material has not received a security classification at this time. The OSCAR system is currently undergoing a security review.

SYSTEM LOCATION:

Chief, Consumer Information Bureau, Room 5-C758, Federal Communications Commission (FCC), 445 12th Street, SW., Washington, DC 20554 and 1270 Fairfield Road, Gettysburg, PA 17325.

CATEGORIES OF INDIVIDUALS COVERED BY THE SYSTEM:

Individuals, groups, and other entities who have made informal complaints or inquiries in any format, including but not limited to, paper, telephone, and electronic submissions, on matters arising under the Communications Act of 1934, as amended, and the Rehabilitation Act.

CATEGORIES OF RECORDS IN THE SYSTEM:

The records in this system include both computerized information contained in a database and paper copies of inquiries, informal complaints, and related supporting information, company replies to complaints, inquiries, and Commission letters regarding such complaints and inquiries made by individuals, groups, or other entities pertaining to the FCC's bureaus and offices.

AUTHORITY FOR MAINTENANCE OF THE SYSTEM:

Secs. 151, 154, 206, 208, 225, 226, 227, 228, 255, 258, 301, 303, 309(e), 312, 362, 364, 386, and 507 of the Communications Act of 1934, as amended, 47 U.S.C. 151, 154, 206, 208, 225, 226, 227, 228, 255, 258, 301, 303, 309(e), 312, 362, 364, 386, and 507; secs. 504 and 508 of the Rehabilitation Act, 29 U.S.C. 794; and 47 CFR 1.711 et seq., 6.15 et seq., 7.15 et seq., and 64.604.

PURPOSE(S):

The records in this system of records are used by Commission personnel to handle and process informal complaints received from individuals, groups, and other entities. Records in this system are available for public inspection after redaction of information that could identify the complainant or correspondent, including, but not limited to, information such as name, address, and/or telephone number.

ROUTINE USES OF RECORDS MAINTAINED IN THE SYSTEM, INCLUDING CATEGORIES OF USERS AND THE PURPOSES OF SUCH USES:

This system of records is used by Commission personnel to handle and process informal complaints received from individuals, groups, and other entities.

1. When a record in this system involves an informal complaint, the complaint may be forwarded to the defendant entity for a response.

2. When an order or other Commission-issued document that includes consideration of informal complaints is entered by the FCC to implement the Communications Act, pertinent rule, regulation, or order of the FCC, the complainant's name and/or telephone number may be made public in that order or document.

3. Where there is an indication of a violation or potential violation of a statute, regulation, rule, or order, records from this system may be referred to the appropriate Federal, state, or local agency responsible for investigating or prosecuting a violation or for enforcing or implementing the statute, rule, regulation, or order.

4. A record on an individual in this system of records may be disclosed, where pertinent, in any legal proceeding to which the Commission is a party before a court or administrative body.

5. A record from this system of records may be disclosed to the Department of Justice or in a proceeding before a court or adjudicative body when:

(a) The United States, the Commission, a component of the Commission, or, when represented by the government, an employee of the Commission is a party to litigation or anticipated litigation or has an interest in such litigation, and

(b) The Commission determines that the disclosure is relevant or necessary to the litigation.

6. A record on an individual in this system of records may be disclosed to a Congressional office in response to an inquiry the individual has made to the Congressional office.

7. A record from this system of records may be disclosed to GSA and NARA for the purpose of records management inspections conducted under authority of 44 U.S.C. 2904 and 2906. Such disclosure shall not be used to make a determination about individuals.

In each of these cases, the FCC will determine whether disclosure of the records is compatible with the purpose for which the records were collected.

DISCLOSURE TO CONSUMER REPORTING AGENCIES:

Not applicable.

POLICIES AND PRACTICES FOR STORING, RETRIEVING, ACCESSING, RETAINING, AND DISPOSING OF RECORDS IN THE SYSTEM:

STORAGE:

Paper copies of records in this system of records are maintained in file folders and electronic files are located in computer databases on the FCC internal network.

RETRIEVABILITY:

Records are retrieved by individual name, entity name, licensee, applicant or unlicensed individual, call sign, file number, or subject matter.

SAFEGUARDS:

Records are stored in locked cabinets, which are secured in the office at the close of the business day. Access to computer records is controlled by password. Computer systems are stored within secure areas. Data resident on network servers are backed-up daily to magnetic media. One week of back-up tapes is stored on-site in fireproof safes. Each week, the previous week's back-up tapes are sent to an off-site storage location. A maximum of ten weeks of tapes are kept and cycled in this fashion.

RETENTION AND DISPOSAL:

The records are retained at the FCC and then destroyed in accordance with the appropriate records retention schedule.

SYSTEM MANAGER(S) AND ADDRESS:

Chief, Consumer Information Bureau, Federal Communications Commission, 445 12th Street, Room 5-C758, SW., Washington, DC 20554.

NOTIFICATION PROCEDURE:

Address inquiries to the system manager.

RECORD ACCESS PROCEDURES:

Address inquiries to the system manager. An individual requesting access must follow FCC Privacy Act regulations regarding verification of identity and amendment of records. See 47 CFR 0.554-0.557.

CONTESTING RECORD PROCEDURES:

Address inquiries to the system manager.

RECORD SOURCE CATEGORIES:

Complainants and subject entities.

EXEMPTIONS CLAIMED FOR THE SYSTEM:

None.

Federal Communications Commission.
William F. Caton,
Deputy Secretary.

[FR Doc. 01-18555 Filed 7-23-01; 8:45 am]

BILLING CODE 6712-01-P